DEPARTMENT OF COMMERCE

National Oceanic and Atmospheric Administration

[I.D. 061402F]

Endangered and Threatened Species; Take of Anadromous Fish

AGENCY: National Marine Fisheries Service (NMFS), National Oceanic and Atmospheric Administration (NOAA), Commerce.

ACTION: Notice of applications for Incidental Take Permits 1391, 1392, and 1393 with Habitat Conservation Plans and availability for public comment.

SUMMARY: Notice is hereby given that NMFS has received three revised applications for incidental take permits (Permits) from the Public Utility District (PUD) No. 1 of Douglas County (Wells application) and PUD No. 1 of Chelan County (Rocky Reach and Rock Island applications), in the State of Washington pursuant to the Endangered Species Act (ESA). Each PUD has revised its application(s) to include a revised Anadromous Fish Agreement and Habitat Conservation Plan (HCP), as required by the ESA, designed to minimize and mitigate any such take of endangered and threatened species. The revised Anadromous Fish Agreements and HCPs are also intended to serve as agreements to satisfy the PUDs obligations under the Federal Power Act and related federal and state laws governing effects on anadromous fish and their habitat. The PUDs seek authorization for the incidental take of listed species associated with the operation of three hydroelectric projects located on the Columbia River between river mile 453.4 and 515.8 near the city of Wenatchee, Washington. These projects impact anadromous fish primarily by impeding up and downstream passage of fish and inundating riverine habitat.NMFS published notice of a Draft Environmental Impact Statement (DEIS) pursuant to the National Environmental Policy Act (NEPA) on December 29, 2000 and received public comment through May 1, 2001. The DEIS evaluated the previous version of the Anadromous Fish Agreements and HCPs. The revised permit applications and Anadromous Fish Agreements and HCPs, which are the subject of this notice, reflect revisions developed to address comments received on the DEIS and to clarify the PUDs responsibilities. NMFS will publish a final EIS which addresses comments received on the DEIS and additional comments received pursuant to this notice. All comments received will become part of the public record and will be available for review pursuant to the ESA.

DATES: Written comments from interested parties on the revised permit applications must be received at the appropriate address or fax number (see ADDRESSES) no later than 5 p.m. Pacific Standard Time on July 25, 2002.

ADDRESSES: Submit comments on the revised permit application and requests for information to Ritchie Graves, National Marine Fisheries Service, Northwest Region, Hydro Program, 525 NE Oregon Street, Suite 420, Portland, OR 97232-2737. Comments may also be sent via fascimile to 503/231-2318. Comments will not be accepted if submitted via e-mail or the Internet. The revised permit applications, revised Anadromous Fish Agreements and HCPs, and supporting documents are also available electronically on the Internet at www.nwr.noaa.gov. Comments received will also be available for public inspection, by appointment, during normal business hours by calling (503) 231-6891.

FOR FURTHER INFORMATION CONTACT: Ritchie Graves at (ph: 503/231-6891, fascimile: 503/231-2318, e-mail: Ritchie.Graves@noaa.gov.

SUPPLEMENTARY INFORMATION:

Authority

Section 9 of the ESA and Federal regulations prohibit the taking of a species listed as endangered or threatened. The term “take” is defined under the ESA to mean harass, harm, pursue, hunt, shoot, wound, kill, trap, capture, or collect, or to attempt to engage in any such conduct. NMFS may issue permits under section 10(a)(1)(b) of the ESA, under limited circumstances, to take listed species incidental to, and not the purpose of, otherwise lawful activities. Authority to take listed species is subject to conditions set forth in the permits. Permits are issued in accordance with and are subject to the ESA and NMFS regulations governing threatened and endangered species (50 CFR 222.307).

Species Covered in This Notice

The following species and evolutionarily significant units are covered in this Notice:

Endangered Upper Columbia River (UCR) spring-run chinook salmon (Oncorhynchus tshawytscha) and steelhead (O. mykiss), unlisted UCR summer/fall-run chinook salmon (O. tshawytscha), Okanogan River and Lake Wenatchee sockeye salmon (O. nerka), and UCR coho salmon (O. kisutch).

Background

The applicants provided NMFS with proposed Anadromous Fish Agreements and HCPs with the intent of obtaining incidental take permits pursuant to ESA section 10(a)(1)(B) in July, 1998. The proposed Anadromous Fish Agreements and HCPs were developed over several years of negotiations with federal and state resource agencies, Indian tribes, and with American Rivers (a non-governmental environmental organization). While these negotiations produced the agreements proposed in 1998, additional information and input was needed to complete the applications. NMFS developed a DEIS analyzing the proposed agreements and HCPs and issued it for public comment on December 29, 2000. Beginning in September, 2002, the parties engaged in additional discussions to resolve issues raised in DEIS comments and to develop complete permit applications. As a result of these discussions, revised Anadromous Fish Agreements and HCPs were developed. NMFS has executed these as contingent agreements, which are effective only upon approval by the Federal Energy Regulatory Commission and issuance by NMFS of incidental take permits after completion of the NEPA and ESA review processes, including thorough consideration of any comments received.

Habitat Conservation Plan

The revised Anadromous Fish Agreements and HCPs continue to include a standard of “no net impact” which consists of a 95-percent juvenile dam passage survival standard and a 91-percent total project survival standard for each of the Plan species. These standards will be achieved through implementation of various measures including increased spill and a new juvenile bypass facility at the Rocky Reach Project. The total project survival standard includes both the juvenile and adult life stages of the Plan species. The unavoidable project mortality (i.e., the remaining 9 percent of the Plan species still impacted by project operations) will be mitigated through a habitat conservation fund and a supplementation program. The habitat fund will address 2 percent of the unavoidable loss and the supplementation program will address the remaining 7 percent. The applicants are requesting incidental take permits with a term of 50 years, settlement under the Federal Power Act when each project is relicensed, and “no surprises” guarantee from the Federal government, limited in certain circumstances as defined in the agreements.

This notice is provided pursuant to section 10(a) of the ESA. NMFS will evaluate the application, associated documents, and comments submitted thereon to determine whether the application meets the requirements of section 10(a) of the ESA and NEPA regulations. If it is determined that the requirements are met, a permit will be issued for the incidental takes of listed species under the jurisdiction of NMFS. The final NEPA and permit determinations will not be completed until after the end of the 30-day comment period and NMFS will fully consider all public comments received during the comment period.

Dated: June 19, 2002.
Margaret Lorenz,
Acting Chief, Endangered Species Division, Office of Protected Resources, National Marine Fisheries Service

[FR Doc. 02-15991 Filed 6-25-02; 8:45 am]

BILLING CODE 3510-22-S